DEPARTMENT OF THE INTERIOR

Bureau of Land Management

[LLOR957000-L631000000-HD000: HAG11-0099]

Filing of Plats of Survey: Oregon/Washington

AGENCY: Bureau of Land Management, Interior.

ACTION: Notice.

SUMMARY: The plats of survey of the following described lands are scheduled to be officially filed in the Bureau of Land Management Oregon/Washington State Office, Portland, Oregon, 30 days from the date of this publication.

Willamette Meridian

Oregon

T. 21 S., R. 27 E., accepted December 3, 2010

T. 27 S., R. 11 W., accepted December 16, 2010

T. 13 S., R. 7 W., accepted December 16, 2010

T. 27 S., R. 13 W., accepted December 20, 2010

Washington

T. 35 N., R. 30 E., accepted December 3, 2010

T. 38 N., R. 38 E., accepted December 30, 2010

ADDRESSES: A copy of the plats may be obtained from the Land Office at the Bureau of Land Management, Oregon/Washington State Office, 333 SW. 1st Avenue, Portland, Oregon 97204, upon required payment. A person or party who wishes to protest against a survey must file a notice that they wish to protest (at the above address) with the Oregon/Washington State Director, Bureau of Land Management, Portland, Oregon.

FOR FURTHER INFORMATION CONTACT: Kyle Hensley, (503) 808-6124, Branch of Geographic Sciences, Bureau of Land Management, 333 SW. 1st Avenue, Portland, Oregon 97204.

Cathie Jensen,
Acting Chief, Branch of Land, Mineral, and Energy Resources.

[FR Doc. 2011-977 Filed 1-18-11; 8:45 am]

BILLING CODE 4310-33-P